DEPARTMENT OF THE INTERIOR

U.S. Geological Survey

[GX14EG50DW73200]

Agency Information Collection Activities: Request for Comments

AGENCY: U.S. Geological Survey (USGS), Interior.

ACTION: Notice of an information collection, The National Map Corps.

SUMMARY: We (the U.S. Geological Survey) will ask the Office of Management and Budget (OMB) to approve the on-going information collection (IC) described below. As required by the Paperwork Reduction Act (PRA) of 1995, and as part of our continuing efforts to reduce paperwork and respondent burden, we invite the general public and other Federal agencies to take this opportunity to comment on this IC.

DATES: To ensure that your comments are considered, we must receive them on or before July 15, 2014.

ADDRESSES: You may submit comments on this information collection to the Information Collection Clearance Officer, U.S. Geological Survey, 12201 Sunrise Valley Drive, MS 807, Reston, VA 20192 (mail); (703) 648-7197 (fax); or dgovoni@usgs.gov (email). Please reference `Information Collection 1028-NEW, The National Map Corps' in all correspondence.

FOR FURTHER INFORMATION CONTACT: Elizabeth McCartney, at (573) 308-3696 or emccartney@usgs.gov.

SUPPLEMENTARY INFORMATION:

I. Abstract

The U.S. Geological Survey (USGS) has historically sponsored volunteer data collection projects to enhance its topographic paper and digital map products, but these activities were suspended in 2008 due to budget concerns. Since then, new Internet technologies have made it easy for citizens to georeference and share many different types of data via online mapping platforms and social networking sites. These data have been referred to as volunteered geographic information (VGI). As a result of these developments, the USGS has reinstated the volunteer data-collection program for The National Map (http://nationalmap.gov).

Using crowd-sourcing techniques, the USGS VGI project known as “The National Map Corps” encourages citizen volunteers to collect data about manmade structures in an effort to provide accurate and authoritative spatial map data for the USGS National Geospatial Program's Web-based The National Map. Citizens collect and/or improve structures data by adding new features, removing obsolete points, and correcting existing data using a Web-based mapping platform. Points edited become part of the National Structures Database, and include schools, hospitals, post offices, police stations and other important public buildings. Through their participation, volunteers are able to make significant contributions to the USGS's ability to provide the Nation with accurate mapping information to support response planning for natural hazards and to provide critical data for sustaining and improving the quality of life and economic vitality of the Nation.

Volunteer efforts are recognized through a program that awards “virtual” badges based on the number of contributions submitted. Each edit that is submitted is worth one point towards the badge level. The badges consist of a series of antique surveying instruments ranging from the Order of the Surveyor's Chain (25-50 points) to the Theodolite Assemblage (2,000+ points). Additionally, volunteers are publicly acknowledged (with their consent) via the USGS's Twitter (https://twitter.com/USGSTNM), Facebook (https://www.facebook.com/USGeologicalSurvey), and Google+ (http://bit.ly/1kGmBeD) social media sites.

Volunteers need nothing but access to a computer and the Internet to participate. The National Map Corps' Web site explains how volunteers can edit any area, regardless of their familiarity with the selected structures. Registration is simple and requires only an email address and self-selected username to facilitate on-going participation. No other personally identifiable information is collected.

The USGS, as authorized by 43 U.S.C. 31, 1332, and 1340, provides research and scientific information to support the mission of the Department of the Interior and its science requirements. Specifically, the USGS Core Science Systems mission area, under which the National Geospatial Program falls, conducts fundamental research and provides data about the Earth, its complex processes, and its natural resources. These activities provide the Nation with natural science information to support response planning for natural hazards and to manage natural resources. Core Science Systems produces geological, geophysical, and geochemical maps and three-dimensional geologic frameworks that provide critical data for sustaining and improving the quality of life and economic vitality of the Nation, and creates the informatics framework and provides scientific content needed for understanding and stewardship of our Nation's ecological, geological, and geospatial resources.

II. Data

OMB Control Number: 1028—NEW.

Title: The National Map Corps.

Type of Request: New information collection.

Affected Public: The general public.

Respondent's Obligation: None; Participation is voluntary.

Frequency of Collection: Occasional.

Estimated Annual Number of Respondents: 1,000.

Estimated Total Number of Annual Responses: 75,000.

Estimated Time per Response: 10 minutes.

Estimated Annual Burden Hours: 12,500 hours.

Estimated Reporting and Recordkeeping “Non-Hour Cost” Burden: None.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

Kari J. Craun,
Director, National Geospatial Technical Operations Center.

[FR Doc. 2014-11287 Filed 5-15-14; 8:45 am]

BILLING CODE 4311-AM-P